DEPARTMENT OF HEALTH AND HUMAN SERVICES

Administration on Aging

Agency Information Collection Activities; Submission for OMB Review; Comment Request; Third National Study of Older Americans Act Title III Service Recipients

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by November 22, 2004.

ADDRESSES: Submit written comments on the collection of information by fax 202.395.6974 or by mail to the Office of Information and Regulatory Affairs, OMB, New Executive Office Bldg., 725 17th St. NW., rm. 10235, Washington, DC 20503, Attn: Brenda Aguilar, Desk Officer for AoA.

FOR FURTHER INFORMATION CONTACT: Cynthia Bauer at 202-357-0145.

SUPPLEMENTARY INFORMATION: In compliance with 44 U.S.C. 3507, AoA has submitted the following proposed collection of information to OMB for review and clearance.

The Third National Study of Older Americans Act Title III Service Recipients—NEW—This information collection, which builds on earlier national pilot studies and performance measurement tools developed by grantees in the Performance Outcomes Measures Project (POMP) will include consumer assessment surveys for the Home-delivered Nutrition Program, Transportation Services and the National Family Caregiver Support Program. Copies of the POMP instruments can be located at http://www.gpra.net. Information collected through this study will be used by AoA to track performance outcome measures; support budget requests; comply with Government Performance and Results Act (GPRA) reporting requirements; provide information for OMB's program assessment (PART) process; provide national benchmark information for grantees and inform program improvement and management initiatives.

AoA estimates the burden of this collection of information as follows: Recipient Surveys—Respondents: individuals; Number of Respondents: 6,000; Number of Responses per Respondent: one; Average Burden per Response: 17.5 minutes; Total Burden for Recipient Surveys: 1,750 hours—Administrative Assistance form Area Agencies on Aging (AAA)—Number of AAAs: 250; Average Burden per Respondent: 2 hours; Total Burden for AAAs: 500 hours—Total Burden for Study: 2,250 hours.

Dated: October 18, 2004.
Josefina G. Carbonell,
Assistant Secretary for Aging.

[FR Doc. 04-23567 Filed 10-20-04; 8:45 am]

BILLING CODE 4154-01-P